DEPARTMENT OF COMMERCE

National Institute of Standards and Technology

Announcement of Public Meeting of the National Conference on Weights and Measures

AGENCY: National Institute of Standards and Technology.

ACTION: Notice of meeting.

SUMMARY: Notice is hereby given that the annual meeting of the National Conference on Weights and Measures will be held July 22 through July 26, 2001, at the Grand Hyatt Hotel, Washington, DC. The meeting is open to the public. The National Conference on Weights and Measures is an organization of weights and measures enforcement officials of the States, counties, and cities of the United States, private sector representatives. The annual meeting of the Conference brings together enforcement officials, other government officials, and representatives of business, industry, trade associations, and consumer organizations to discuss subjects that relate to the field of weights an measures technology and administration. Pursuant to (15 U.S.C. 271(b)(6)), the National Institute of Standards and Technology supports the National Conference on Weights and Measures in order to promote uniformity among the States in the complex of laws, regulations, methods, and testing equipment that comprises regulatory control by the States of commercial weighing and measuring.

DATES: The meeting will be held July 22-July 26, 2001.

ADDRESSES: The meeting will be held at the Grand Hyatt Hotel, 1000 H Street, NW., Washington, DC.

FOR FURTHER INFORMATION CONTACT: Henry V. Oppermann, Chief, NIST, Office of Weights and Measures, 100 Bureau Drive, Stop 2350, Gaithersburg, MD 20899-2350. Telephone (301) 975-4004, or E-mail owm@nist.gov.

Karen H. Brown,
Acting Director.

[FR Doc. 01-15078 Filed 6-14-01; 8:45 am]

BILLING CODE 3510-13-M